OFFICE OF SCIENCE AND TECHNOLOGY POLICY

National Strategic Plan for Advanced Manufacturing; Request for Information

AGENCY: Office of Science and Technology Policy (OSTP).

ACTION: Notice of request for information (RFI).

SUMMARY: On behalf of the National Science and Technology Council (NSTC), Committee on Technology, Subcommittee on Advanced Manufacturing, OSTP requests input from all interested parties on the development of a National Strategic Plan for Advanced Manufacturing. Through this RFI, OSTP seeks input from the public, on ways to improve government coordination, and on long-term guidance for Federal programs and activities in support of United States manufacturing competitiveness, including: Advanced manufacturing research and development that will create jobs, grow the economy across multiple industrial sectors, strengthen national security, enhance sustainability, contribute to climate change challenges, and improve health care. The public input provided in response to this RFI will inform OSTP and NSTC as they work with Federal agencies and other stakeholders to develop the strategic plan.

DATES: Responses are due by December 17, 2021.

ADDRESSES: Responses should be submitted online at https://docs.google.com/forms/d/e/1FAIpQLSeZdOIhLsiSLqqOWqP0MekJHA0EHlEDb_D6mjl-H5JghM0F2g/viewform.

Instructions: Response to this RFI is voluntary. Respondents need not reply to all questions listed. Each individual or institution is requested to submit only one response. OSTP and/or NSTC may post responses to this RFI, without change, on a Federal website. OSTP, therefore, requests that no business proprietary information, copyrighted information, or personally identifiable information be submitted in response to this RFI. Please note that the United States Government will not pay for response preparation, or for the use of any information contained in the response.

FOR FURTHER INFORMATION CONTACT: Said Jahanmir, amnpo@nist.gov, 202-819-5296.

SUPPLEMENTARY INFORMATION: The Consolidated and Further Continuing Appropriations Act 2015 (Pub. L. 113-235), incorporating the Revitalize American Manufacturing and Innovation Act of 2014, revised 42 U.S.C. 6622 to direct NSTC to develop and to update, in coordination with the National Economic Council, a strategic plan to improve government coordination and to provide long-term guidance for Federal programs and activities in support of United States manufacturing competitiveness, including advanced manufacturing research and development (R&D). The current National Strategic Plan for Advanced Manufacturing (“Plan”) was released on October 5, 2018 (https://www.manufacturing.gov/news/announcements/2018/10/strategy-american-leadership-advanced-manufacturing).

Advanced manufacturing is a family of activities that (1) depend on the use and coordination of information, automation, computation, software, sensing, and networking, and/or (2) make use of cutting-edge materials and emerging capabilities enabled by the physical and biological sciences, for example: Nanotechnology, chemistry, and biology. It involves both new ways to manufacture existing products, and the manufacture of new products emerging from new advanced technologies.

NSTC has commenced the development of an updated Plan to be released in 2022. Pursuant to 42 U.S.C. 6622, OSTP is soliciting public input through this RFI to obtain recommendations from a wide range of stakeholders, including representatives from diverse manufacturing companies, academia, other relevant organizations and institutions, and the general public. The public input provided in response to this RFI will inform OSTP and NSTC as they work with Federal agencies and other stakeholders to develop an updated revised Plan.

Questions To Inform Development of the Plan

OSTP seeks responses to the following questions to improve government coordination and to provide long-term guidance for Federal programs and activities in support of United States manufacturing competitiveness, including advanced manufacturing R&D.

1. Which emerging science and technology areas will be key to the next generation of advanced manufacturing for global competitiveness, sustainability, and environmental challenges?

2. What should be the near-term and long-term technology development R&D priorities for advanced manufacturing, the anticipated timeframe for achieving the objectives, and the metrics in assessing progress toward the objectives?

3. What are examples of technological, market, or business challenges that may best be addressed by public-private partnerships, and are likely to attract both participation and primary funding from industry?

4. How can Federal agencies and federally funded R&D centers supporting advanced manufacturing R&D facilitate the transfer of research results, intellectual property, and technology into commercialization and manufacturing for the benefit of society and ensure sustainability, national security, and economic security?

5. How would you assess the state of the domestic advanced manufacturing workforce in the U.S? How can Federal agencies and federally funded R&D centers develop, align, and strengthen all levels of advanced manufacturing education, training, and certification programs to ensure a high-quality, equitable, diverse, and inclusive workforce that meets the needs of the sector and drives new advanced manufacturing jobs into the future?

6. How can the Federal government assist in the development of regional public-private partnerships to achieve greater distribution of advanced manufacturing clusters or technology hubs, particularly in underserved regions of the country? What outreach and engagement strategies are most useful in promoting development in underserved regions of the country?

7. How do we assess the adequacy of the domestic advanced manufacturing supply chain and industrial base? How can Federal agencies assist small and medium sized manufacturing companies to adopt advanced technologies and to develop a robust and resilient manufacturing supply chain? What steps can these agencies take to promote the development and diffusion of technology that augments worker skills (rather than substituting for them), and ensures that manufacturing jobs are good jobs?

8. Are there useful models (at the international, national, state and/or local level) that should be expanded?

9. The current Strategy for American Leadership in Advanced Manufacturing (https://www.manufacturing.gov/news/announcements/2018/10/strategy-american-leadership-advanced-manufacturing) has three top-level goals, each with objectives and priorities: (1) Develop and transition new manufacturing technologies; (2) Educate, train, and connect the manufacturing workforce; and (3) Expand the capabilities of the domestic manufacturing supply chains. Are these goals appropriate for the next 4-5 years? Are there additional top-level goals to consider?

10. Is there any additional information related to advanced manufacturing in the United States, not requested above, that you believe should be considered?

Dated: September 30, 2021.
Stacy Murphy,
Operations Manager.

[FR Doc. 2021-21644 Filed 10-4-21; 8:45 am]

BILLING CODE 3270-FI-P